DEPARTMENT OF LABOR

Employment and Training Administration

[TA-W-70,816]

Callaway Golf Ball Operations, Inc., 425 Meadow Street, Chicopee, MA; Notice of Termination of Investigation

Pursuant to Section 223 of the Trade Act of 1974, as amended, an investigation was initiated on May 29, 2009 in response to a petition filed by a company official on behalf of workers of Callaway Golf Ball Operations, Inc., Chicopee, Massachusetts.

The subject worker group is covered by an earlier petition (TA-W-70,744) filed on May 29, 2009 that is the subject of an ongoing investigation for which a determination has not yet been issued. Consequently, further investigation in this case would serve no purpose, and the investigation under this petition has been terminated.

Signed at Washington, DC, this 19th day of June 2009.
Richard Church,
Certifying Officer, Division of Trade Adjustment Assistance.

[FR Doc. E9-15762 Filed 7-2-09; 8:45 am]

BILLING CODE 4510-FN-P